DEPARTMENT OF HEALTH AND HUMAN SERVICES

Food and Drug Administration

Advisory Committees; Filing of Annual Reports

AGENCY: Food and Drug Administration, HHS.

ACTION: Notice.

SUMMARY: The Food and Drug Administration (FDA) is announcing, as required by the Federal Advisory Committee Act, that the agency has filed with the Library of Congress the annual reports of those FDA advisory committees that held closed meetings during fiscal year 2004.

ADDRESSES: Copies are available from the Division of Dockets Management (HFA-305), Food and Drug Administration, 5630 Fishers Lane, rm. 1061, Rockville, MD 20857, 301-827-6860.

FOR FURTHER INFORMATION CONTACT: Theresa L. Green, Committee Management Officer, Advisory Committee Oversight and Management Staff (HF-4), Food and Drug Administration, 5600 Fishers Lane, Rockville, MD 20857, 301-827-1220.

SUPPLEMENTARY INFORMATION: Under section 13 of the Federal Advisory Committee Act (5 U.S.C. app. 2) and 21 CFR 14.60(c), FDA has filed with the Library of Congress the annual reports for the following FDA advisory committees through September 30, 2004:

Center for Biologics Evaluation and Research

Biological Response Modifiers Advisory Committee

Blood Products Advisory Committee

Vaccines and Related Biological Products Advisory Committee

Center for Drug Evaluation and Research

Anti-Infective Drugs Advisory Committee

Anesthetic and Life Support Drugs Advisory Committee

Dermatologic and Ophthalmic Drugs Advisory Committee

Nonprescription Drugs Advisory Committee

Center for Devices and Radiological Health

Medical Devices Advisory Committee (consisting of reports for the Dental Products Panel; Orthopaedic and Rehabilitation Devices Panel; Ophthalmic Devices Panel; Radiological Devices Panel)

Annual reports are available for public inspections between 9 a.m. and 4 p.m., Monday through Friday at the following locations:

1. The Library of Congress, Madison Bldg., Newspaper and Current Periodical Reading Room, 101 Independence Ave. SE., rm. 133, Washington, DC; and

2. The Division of Dockets Management (HFA-305), Food and Drug Administration, 5630 Fishers Lane, rm. 1061, Rockville, MD 20852.

Dated: November 3, 2004.
Sheila Dearybury Walcoff,
Associate Commissioner for External Relations.

[FR Doc. 04-24996 Filed 11-9-04; 8:45 am]

BILLING CODE 4160-01-S